DEPARTMENT OF ENERGY

Federal Energy Regulatory Commission

[Docket Nos. CPO2-394-000 and CPO-395-000]

Colonial Gas Company and Energy North Natural Gas, Inc.; Notice of Application

July 10, 2002.

Take notice that on June 26, 2002, Colonial Gas Company (Colonial), One Beacon Street, Boston, Massachusetts 02108, and EnergyNorth Natural Gas, Inc. (EnergyNorth) (jointly referred to as Applicants), 1260 Elm Street, Manchester, New Hampshire 03105, subsidiaries of KeySpan Corporation, filed in Docket Nos. CP02-394-000 and CP02-395-000, an application pursuant to Section 7(f) of the Natural Gas Act (NGA) for service area determinations, a declaration that Colonial and EnergyNorth qualify as local distribution companies (LDC) and a waiver of the regulatory requirements under the NGA and the Natural Gas Policy Act (NGPA), all as more fully set forth in the application which is on file with the Commission and open to public inspection. Copies of this filing are on file with the Commission and are available for public inspection. This filing may be viewed on the Web at http://www.ferc.gov using the “RIMS” link, select “Docket #” from the RIMS Menu and follow the instructions (call (202) 208-2222 for assistance).

Applicants request a service area determination for the areas they serve in Massachusetts and New Hampshire in order to be able to enlarge or extend their facilities for the purpose of supplying increased market demands without the need to apply to the Commission for further authorization. Specifically, Colonial requests a determination that its service area include its territory in Northeastern Massachusetts as well as EnergyNorth's territory in New Hampshire. EnergyNorth requests a determination that its service area include its territory in New Hampshire as well as Colonial's territory in Northeastern Massachusetts. It is explained that the proposal would allow both affiliated companies to connect their systems at the state border in order to improve distribution system pressures and to avoid the potential of customer outages due to emergency situations.

Applicants also request a declaration that they qualify as LDC's in the service area to be determined for the purposes of section 311 of the NGPA.. In addition, Applicants request a waiver of the regulatory requirements ordinarily applicable to natural gas companies under the NGA and the NGPA. It is asserted that Applicants' operations are almost entirely in intrastate commerce with the exception of small portions where they cross the Massachusetts-New Hampshire border. It is stated that Colonial's services and rates are regulated by the Massachusetts Department of Telecommunications and Energy and that EnergyNorth's services and rates are regulated by the New Hampshire Public Utilities Commission.

Any questions regarding this amendment should be directed to Thomas O'Neill at (617) 723-5512, or Kenneth T. Maloney at (202) 223-8890.

There are two ways to become involved in the Commission's review of this project. First, any person wishing to obtain legal status by becoming a party to the proceedings for this project should, on or before July 31, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-17810 Filed 7-15-02; 8:45 am]

BILLING CODE 6717-01-P